DEPARTMENT OF DEFENSE

Department of the Navy

[USN-2007-0007]

Privacy Act of 1974; System of Records

AGENCY: Department of the Navy, DoD.

ACTION: Notice to Amend Systems of Records.

SUMMARY: The Department of the Navy is amending five systems of records notices in its existing inventory of record systems subject to the Privacy Act of 1974 (5 U.S.C. 552a), as amended.

DATES: This proposed action will be effective without further notice on February 28, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974 (5 U.S.C. 552a), as amended, have been published in the Federal Register and are available from the address above.

The specific changes to the records systems being amended are set forth below followed by the notice, as amended, published in its entirety. The proposed amendments are not within the purview of subsection (r) of the Privacy Act of 1974 (5 U.S.C. 552a), as amended, which requires the submission of a new or altered system report.

Dated: January 22, 2007.
C.R. Choate,
Alternate OSD Federal Register Liaison Officer, Department of Defense.

N01000-2

System name:

Naval Discharge Review Board Proceedings (April 14, 1999, 64 FR 18410).

Changes:

* * * * *

System manager(s) and address:

Delete entry and replace with “Director, Secretary of the Navy Council of Review Boards, Department of the Navy, Washington Navy Yard, 720 Kennon Street SE, Room 309, Washington, DC 20374-5023.”

Notification procedure:

Delete entry and replace with “Individuals seeking to determine whether information about themselves is contained in this system should address written inquiries to the Director, Secretary of the Navy Council of Review Boards, Department of the Navy, Washington Navy Yard, 720 Kennon Street SE., Room 309, Washington, DC 20374-5023.

The signed request should contain name and social security number and docket number if known.”

Record access procedures:

Delete entry and replace with “Individuals seeking access to information about themselves contained in this system should address written inquiries to the Director, Secretary of the Navy Council of Review Boards, Department of the Navy, Washington Navy Yard, 720 Kennon Street SE., Room 309, Washington, DC 20374-5023.

The signed request should contain name and social security number and docket number if known.”

* * * * *

N01000-2

System name:

Naval Discharge Review Board Proceedings (April 14, 1999, 64 FR 18410).

System location:

Naval Discharge Review Board, Washington Navy Yard, 720 Kennon Street SE., Room 309, Washington, DC 20374-5023.

Categories of individuals covered by the system:

Former Navy and Marine Corps personnel who have submitted applications for review of discharge or dismissal pursuant to 10 U.S.C. 1553, or whose discharge or dismissal has been or is being reviewed by the Naval Discharge Review Board, on its own motion, or pursuant to an application by a deceased former member's next of kin.

Categories of records in the system:

The file contains the former member's application for review of discharge or dismissal, any supporting documents submitted therewith, copies of correspondence between the former member or his counsel and the Naval Discharge Review Board and other correspondence concerning the case, and a summarized record of proceedings before the Board.

Authority for maintenance of the system:

10 U.S.C. 1553, Review of discharge or dismissal and E.O. 9397 (SSN).

Purpose(s):

Selected information is used to defend the Department of the Navy in civil suits filed against it in the State and/or Federal courts system. This information will permit officials and employees of the Board to consider former member's applications for review of discharge or dismissal and any subsequent application by the member; to answer inquiries on behalf of or from the former member or counsel regarding the action taken in the former member's case. The file is used by members of the Board for Correction of Naval Records when reviewing any subsequent application by the former member for a correction of records relative to the former member's discharge or dismissal.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The file is used by counsel for the former member, and by accredited representatives of veterans' organizations recognized by the Secretary, Department of Veterans Affairs under 38 U.S.C. 3402 and duly designated by the former member as his or her representative before the Naval Discharge Review Board.

Officials of the Department of Justice and the United States Attorneys offices assigned to the particular case.

The DoD ‘Blanket Routine Uses’ that appear at the beginning of the Navy's compilation of systems of records notices apply to this system.

Policies and practices for storing, retrieving, accessing, retaining, and disposing of records in the system:

Storage:

Paper records in file folders; microfiche; plastic recording disks; recording cassettes; and computerized database.

Retrievability:

Name, docket number, and/or Social Security Number.

Safeguards:

Computerized database is password protected and access is limited. The office is locked at the close of business. The office is located in a building on a military installation which has 24-hour gate sentries and 24-hour roving patrols.

Retention and disposal:

Files are transferred to the Washington Federal Records Center, 4205 Suitland Road, Suitland, MD 20409 when case is closed and then destroyed after 15 years.

System manager(s) and address:

Director, Secretary of the Navy Council of Review Boards, Department of the Navy, Washington Navy Yard, 720 Kennon Street SE., Room 309, Washington, DC 20374-5023.

Notification procedure:

Individuals seeking to determine whether information about themselves is contained in this system should address written inquiries to the Director, Secretary of the Navy Council of Review Boards, Department of the Navy, Washington Navy Yard, 720 Kennon Street SE., Room 309, Washington, DC 20374-5023.

The signed request should contain name and social security number and docket number if known.

Record access procedures:

Individuals seeking access to information about themselves contained in this system should address written inquiries to the Director, Secretary of the Navy Council of Review Boards, Department of the Navy, Washington Navy Yard, 720 Kennon Street SE., Room 309, Washington, DC 20374-5023.

The signed request should contain name and social security number and docket number if known.

Contesting record procedures:

The Navy's rules for accessing records, and for contesting contents and appealing initial agency determinations are published in Secretary of the Navy Instruction 5211.5; 32 CFR part 701; or may be obtained from the system manager.

Record source categories:

Information contained in the files is obtained from the former member or those acting on the former member's behalf, from military personnel and medical records, and from records of law enforcement investigations.

Exemptions claimed for the system:

None.

N01000-5

System name:

Naval Clemency and Parole Board Files (August 30, 2000, 65 FR 52718).

Changes:

* * * * *

Authority for maintenance of the system:

Delete entry and replace with “10 U.S.C. 874(a), 952-954; 10 U.S.C. 5013, Secretary of the Navy; 42 U.S.C. 10601 et seq.; Victim's Rights and Restitution Act of 1990 as implemented by DoD Instruction 1030.2, Victim and Witness Assistance Procedures, SECNAVINST 5815.3J, Department of the Navy Clemency and Parole Systems; and E.O. 9397 (SSN).”

* * * * *

System manager(s) and address:

Delete entry and replace with “Director, Secretary of the Navy Council of Review Boards, Department of the Navy, 720 Kennon Street SE., Room 309, Washington Navy Yard, DC 20374-5023.”

Notification procedure:

Delete first paragraph and replace with “Individuals seeking to determine whether information about themselves is contained in this system should address written inquiries to the Director, Secretary of the Navy Council of Review Boards, Department of the Navy, 720 Kennon Street SE., Room 309, Washington Navy Yard, DC 20374-5023.”

Record access procedures:

Delete first paragraph and replace with “Individuals seeking access to information about themselves contained in this system should address written inquiries to the Director, Secretary of the Navy Council of Review Boards, Department of the Navy, 720 Kennon Street SE., Room 309, Washington Navy Yard, DC 20374-5023.”

* * * * *

N01000-5

System name:

Naval Clemency and Parole Board Files.

System location:

Naval Clemency and Parole Board, 720 Kennon Street SE., Room 308, Washington Navy Yard, DC 20374-5023.

Categories of individuals covered by the system:

Members or former members of the Navy, Marine Corps, or Coast Guard whose cases have been or are being considered by the Naval Clemency and Parole Board.

Categories of records in the system:

The file contains individual applications for clemency and/or parole, reports and recommendations thereon indicating progress in confinement or while awaiting completion of appellate review if not confined, or on parole; correspondence between the individual or his counsel and the Naval Clemency and Parole Board or other Navy offices; other correspondence concerning the case; the court-martial order and staff Judge Advocate's review; records of trial; and a summarized record of the proceedings of the Board.

Authority for maintenance of the system:

10 U.S.C. 874(a), 952-954; 10 U.S.C. 5013, Secretary of the Navy; 42 U.S.C. 10601 et seq.; Victim's Rights and Restitution Act of 1990 as implemented by DoD Instruction 1030.2, Victim and Witness Assistance Procedures, SECNAVINST 5815.3J, Department of the Navy Clemency and Parole Systems; and E.O. 9397 (SSN).

Purpose(s):

The file is used in conjunction with periodic review of the member's or former member's case to determine whether or not clemency or parole is warranted. The file is referred to in answering inquiries from the member or former member or their counsel. The file is referred to by the Naval Discharge Review Board and the Board for Correction of Naval Records in conjunction with their subsequent review of applications from members or former members. The file is also used by counsel in connection with representation of members or former members before the Naval Clemency and Parole Board.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To victims and witnesses of a crime for purposes of providing information regarding the investigation and disposition of an offense (Victim's Rights and Restitution Act of 1990).

The DoD ‘Blanket Routine Uses' that appear at the beginning of the Navy's compilation of systems of records notices apply to this system.

Policies and practices for storing, retrieving, accessing, retaining, and disposing of records in the system:

Storage:

Paper records and computerized database.

Retrievability:

Name and Social Security Number.

Safeguards:

Files are kept within the Naval Clemency and Parole Board administration office. Access during business hours is controlled by Board personnel. The office is locked at the close of business. Computerized database is password protected.

Retention and disposal:

Files are transferred to the Washington National Records Center, 4205 Suitland Road, Suitland, MD 20409 one year after discharge of individual from the naval service. Files are destroyed after 25 years after cut-off.

System manager(s) and address:

Director, Secretary of the Navy Council of Review Boards, Department of the Navy, 720 Kennon Street SE., Room 309, Washington Navy Yard, DC 20374-5023.

Notification procedure:

Individuals seeking to determine whether information about themselves is contained in this system should address written inquiries to the Director, Secretary of the Navy Council of Review Boards, Department of the Navy, 720 Kennon Street SE., Room 309, Washington Navy Yard, DC 20374-5023.

Requests should contain full name and Social Security Number and must be signed.

Record access procedures:

Individuals seeking access to information about themselves contained in this system should address written inquiries to the Director, Secretary of the Navy Council of Review Boards, Department of the Navy, 720 Kennon Street SE., Room 309, Washington Navy Yard, DC 20374-5023.

Requests should contain full name and Social Security Number and must be signed.

Contesting record procedures:

The Navy's rules for accessing records, and for contesting contents and appealing initial agency determinations are published in Secretary of the Navy Instruction 5211.5; 32 CFR part 701; or may be obtained from the system manager.

Record source categories:

Information contained in the file is obtained from the member or former member or from those acting in their behalf, from confinement facilities, from military commands and offices, from personnel service records and medical records, and from civilian law enforcement agencies or individuals.

Exemptions claimed for the system:

Parts of this system may be exempt pursuant to 5 U.S.C. 552a(j)(2) if the information is compiled and maintained by a component of the agency which performs as its principle function any activity pertaining to the enforcement of criminal laws.

An exemption rule for this system has been promulgated in accordance with requirements of 5 U.S.C. 553(b)(1), (2), and 3, (c) and (e) and published in 32 CFR part 701, subpart G. For additional information contact the system manager.

12930-1

System name:

Human Resources Group Personnel Records (September 20, 1993, 58 FR 48852).

Changes:

System name:

At beginning of entry add “NEXCOM”.

* * * * *

Purpose(s):

Delete entry and replace with “To determine suitability for employment, transfer, promotion or retention; to verify employment; to track travel performed and verify employee received proper remuneration for the travel performed; to process appraisals and salary increases; to provide a unique identification number that can be extracted into other systems with employee credentials (i.e., name, title, supervisor, department) for Information Technology systems account access and user provisioning purposes; to recognize accomplishments and contributions made by employees, and to administer and adjudicate discipline, grievances, complaints, appeals, litigation, and program evaluations.”

* * * * *

N12930-1

System name:

NEXCOM Human Resources Group Personnel Records.

System location:

Navy Exchange Service Command, 3280 Virginia Beach Boulevard, Virginia Beach, VA 23452-5724 and at all Navy Exchanges.

Mailing addresses for Navy Exchanges are available from the Commander, Navy Exchange Service Command, 3280 Virginia Beach Boulevard, Virginia Beach, VA 23452-5724.

Categories of individuals covered by the system:

Civilian employees, former civilian employees, and applicants for employment with the Navy Exchange Service Command and Navy Exchanges located worldwide. Employees who are paid from nonappropriated funds are regular full time, regular part-time, temporary full time, temporary part-time and intermittent.

Categories of records in the system:

Personnel jackets, including but not limited to Personnel Information Questionnaire, Personnel Action; Certification of Medical Examination Indoctrination Checklist; Election forms for all life, health, and retirement programs, applicant participation data for each program; notice of excessive absence and tardiness and warnings; disciplinary actions; certified record of court attendance; certified copy of completed military orders for any annual duty tours with recognized reserve organizations; employee job description; tuition assistance records; examination papers and tests, if any; evidence of date of birth, where required; official letters of commendation; cash register overage/shortage records; report of hearings and recommendations relative to employee's grievances; official work performance rating; designation beneficiary for unpaid compensation; reference check records; applicant files; employee profiles; personnel security information (including copies of National Agency Check (NAC) and Naval Criminal Investigative Service (NCIS) reports); Certificate of Standards of Conduct and Fraud, Waste and Abuse training; travel requests, travel allowance and claims record; transportation agreements; employee affidavits; privilege card application, work assignments, work performance capability, counseling records, work-related records, training records including courses, type and completion dates; and related data.

Labor and Employee Relations Records include notices of excessive absence, tardiness and warnings; disciplinary actions; unsatisfactory work performance evaluations; grievances, appeals, complaint and appeal records; reports of potential grievances and appeals; congressional correspondence; investigative reports and summaries of personnel administrative actions.

Employee Benefits Records include data relating to Quality Salary Increase, Superior Accomplishment Recognition Awards, beneficial suggestions and similar awards; and personnel listings of the aforementioned services. Election forms for all life, health, and retirement programs and claims made for those programs.

Authority for maintenance of the system:

5 U.S.C. 301, Departmental Regulations; 29 U.S.C. 201; 29 U.S.C. 633a; 29 U.S.C. 791 and 794a; Pub. L. 93-259, Equal Employment Act of 1972; and E.O. 9397 (SSN).

Purpose(s):

To determine suitability for employment, transfer, promotion or retention; to verify employment; to track travel performed and verify employee received proper remuneration for the travel performed; to process appraisals and salary increases; to provide a unique identification number that can be extracted into other systems with employee credentials (i.e., name, title, supervisor, department) for Information Technology systems account access and user provisioning purposes; to recognize accomplishments and contributions made by employees, and to administer and adjudicate discipline, grievances, complaints, appeals, litigation, and program evaluations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To appeals officers and complaints examiners of the Equal Employment Opportunity Commission for the purpose of conducting hearings in connection with employees appeals from adverse actions and formal discrimination complaints.

To a federal agency in response to its request in connection with the hiring or retention of an employee, the issuance of a security clearance, the conducting of a security or suitability investigation of an individual, the classifying of jobs, the letting of a contract or the issuance of a license, grant or other benefit by the requesting agency, to the extent that the information is relevant and necessary.

To the National Archives and Records Administration (GSA) in records management inspection conducted under authority of 5 U.S.C. 2904 and 2906.

In response to a request for discovery or for appearance of a witness, information that is relevant to the subject matter involved in the pending judicial or administrative proceeding.

To officials of labor organizations recognized under the Civil Service Reform Act when relevant and necessary to their duties of exclusive representation concerning personnel policies, practices and matters affecting working conditions.

The DoD `Blanket Routine Uses' that appear at the beginning of the Navy's compilation of systems notices also apply to this system.

Note: Records of identity, diagnosis, prognosis or treatment of any client/patient, irrespective of whether or when he/she ceases to be a client/patient, maintained in connection with the performance of any alcohol or drug abuse prevention and treatment function conducted, requested, or directly or indirectly assisted by any department or agency of the United States, shall, except as provided herein, be confidential and be disclosed only for the purposes and under the circumstances expressly authorized in 42 U.S.C. 290dd-2. These statutes take precedence over the Privacy Act of 1974 in regard to accessibility of such records except to the individual to whom the record pertains. The DoD `Blanket Routine Uses' do not apply to these records.

Policies and practices for storing, retrieving, accessing, retaining, and disposing of records in the system:

Storage:

The media in which these records are maintained vary, but include: File folders; magnetic tapes; automated minicomputer database, disks and diskettes (hard drive); rolodex files; cardex files; ledgers; and printed reports.

Retrievability:

Name and/or Social Security Number; employee payroll number.

Safeguards:

Locked desks in supervisor's office and also, locked cabinets in locked offices supervised by appropriate personnel; periodic system backup and microcomputer records to data cartridge, microcomputer power supply locks and/or hard drive locks; security guards.

Retention and disposal:

Current employee records remain on file at the local Navy Exchange personnel office. Records on former employees are retained for one year and then forwarded to the Director, National Personnel Records Center, (Civilian Personnel Records), 111 Winnebago Street, St. Louis, MO 63118, for retention of permanent papers and destruction of temporary papers. Applicant files are retained for six months and then destroyed.

System manager(s) and address:

Policy Official: Commander, Navy Exchange Service Command, 3280 Virginia Beach Boulevard, Virginia Beach, VA 23452-5724.

Master Record Holder: Manager, Staffing and Career Management, HRG-3, Navy Exchange Service Command, 3280 Virginia Beach Boulevard, Virginia Beach, VA 23452-5724.

Record Holder: Manager at the local Navy Exchange. Mailing Addresses are available from the Commander, Navy Exchange Service Command, 3280 Virginia Beach Boulevard, Virginia Beach, VA 23452-5724.

Notification procedure:

Individuals seeking to determine whether this system of records contains information about themselves should address written inquiries to the Commander, Navy Exchange Service Command, 3280 Virginia Beach Boulevard, Virginia Beach, VA 23452-5724, or to the manager of the local Navy Exchange where employed.

The request should contain full name, Social Security Number, activity where last employed or where last application for employment was filed. A list of other offices the requester may visit will be provided after initial contact is made at the office listed above. At the time of a personal visit, requester must provide proof of identity containing the requester's signature.

Record access procedures:

Individuals seeking access to records about themselves contained in this system of records should address written inquiries to the Commander, Navy Exchange Service Command, 3280 Virginia Beach Boulevard, Virginia Beach, VA 23452-5724, or to the manager of the local Navy Exchange where employed.

The request should contain full name, Social Security Number, activity where last employed or where last application for employment was filed. A list of other offices the requester may visit will be provided after initial contact is made at the office listed above. At the time of a personal visit, requester must provide proof of identity containing the requester's signature.

Contesting record procedures:

The Navy's rules for accessing records, and for contesting contents and appealing initial agency determinations are published in Secretary of the Navy Instruction 5211.5; 32 CFR part 701; or may be obtained from the system manager.

Record source categories:

The individual to whom the record pertains; current and previous supervisors/employers; other records of the activity concerned; counseling records and comparable papers; educational institutions; applicants; applicant's previous employees; current and previous associates of the employee named by the employee as references; other records of activity investigators; witnesses; correspondents; investigative results and information provided by appropriate investigative agencies of the Federal Government.

Exemptions claimed for the system:

Investigatory material compiled solely for the purpose of determining suitability, eligibility, or qualifications for federal civilian employment, military service, federal contracts, or access to classified information may be exempt pursuant to 5 U.S.C. 552a(k)(5), but only to the extent that such material would reveal the identity of a confidential source.

Testing or examination material used solely to determine individual qualifications for appointment or promotion in the federal or military service, if the disclosure would compromise the objectivity or fairness of the test or examination process may be exempt pursuant to 5 U.S.C. 552a(k)(6), if the disclosure would compromise the objectivity or fairness of the test or examination process.

An exemption rule for this system has been promulgated in accordance with the requirements of 5 U.S.C. 553(b)(1), (2), and (3), (c) and (e) and published in 32 CFR part 701, subpart G. For additional information, contact the system manager.

N01752-3

System name:

Child Sexual Abuse (CSA) Case Management System (May 11, 1999, 64 FR 25312).

Changes:

* * * * *

System location:

Navy Installations Command (N9113), 2713 Mitscher Road SW., Ste 300, Anacostia Annex, DC 20373-5802.

* * * * *

Authority for maintenance of the system:

Delete entry and replace with “10 U.S.C. 5013, Secretary of the Navy; E.O. 9397 (SSN); and OPNAV Instruction 1752.2A, Family Advocacy Program.”

* * * * *

Retention and disposal:

Delete entry and replace with “Paper records closed before 1 January 1998 will be maintained on site for a period of four years, after which they will be retired to the National Personnel Records Center, 9700 Page Avenue, St. Louis, MO 63132-5100 and held for a period of 50 years. All paper records closed on or after 1 January 1998, will be maintained on site for a period of five years, after which they will be destroyed, with only the electronic records being maintained for 50 years.”

* * * * *

N01752-3

System name:

Child Sexual Abuse (CSA) Case Management System.

System location:

Navy Installations Command (N9113), 2713 Mitscher Road SW., Ste 300, Anacostia Annex, DC 20373-5802.

Categories of individuals covered by the system:

Navy active duty personnel alleged to have committed or been involved with Child Sexual Abuse (CSA) cases.

Categories of records in the system:

Alleged offender's name, Social Security Number, date of birth, rank, military address, year(s) of alleged incident, expiration of active obligated service, projected rotation date, number of victims, notes, case determination, case number, subsequent reviews.

Authority for maintenance of the system:

10 U.S.C. 5013, Secretary of the Navy; E.O. 9397 (SSN); and OPNAV Instruction 1752.2A, Family Advocacy Program.

Purpose(s):

To maintain copies of all reported Child Sexual Abuse (CSA) cases and maintain a computerized database of alleged CSA offenders for use in tracking the individual, collecting statistics, conducting research studies, complying with Child Protective Service requirements at state and local levels, and assisting in the development of CSA program policy issues.

Routine uses of records maintained in the system, including categories of users and the purposes of such uses:

In addition to those disclosures generally permitted under 5 U.S.C. 552a(b) of the Privacy Act, these records or information contained therein may specifically be disclosed outside DoD as a routine use pursuant to 5 U.S.C. 552a(b)(3) as follows:

To Federal, state, or local government agencies when it is deemed appropriate to utilize civilian resources in the counseling and treatment of individuals or families involved in abuse or neglect; or when it is deemed appropriate or necessary to refer a case to civilian authorities for civil or criminal law enforcement.

To officials and employees of Federal, state, and local governments and agencies when required by law and/or regulation in furtherance of local communicable disease control, family abuse prevention programs, preventive medicine and safety programs, and other public health and welfare programs.

To officials and employees of local and state governments and agencies in the performance of their official duties relating to professional certification, licensing, and accreditation of health case providers.

To law enforcement officials to protect the life and welfare of third parties. This release will be limited to necessary information. Consultation with the hospital or regional judge advocate is advised.

The DoD ‘Blanket Routine Uses’ that appear at the beginning of the Navy's compilation of systems notices also apply to this system.

Policies and practices for storing, retrieving, accessing, retaining, and disposing of records in the system:

Storage:

Paper and automated records.

Retrievability:

Name and Social Security Number.

Safeguards:

These files are highly sensitive and must be protected from unauthorized disclosure. While records may be maintained in various kinds of filing equipment, specific emphasis is given to ensuring that the equipment areas are monitored or have controlled access. Information maintained on the computer is password protected. Computer terminals are located in supervised areas with an access controlled system.

Retention and disposal:

Paper records closed before 1 January 1998 will be maintained on site for a period of four years, after which they will be retired to the National Personnel Records Center, 9700 Page Avenue, St. Louis, MO 63132-5100 and held for a period of 50 years. All paper records closed on or after 1 January 1998, will be maintained on site for a period of five years, after which they will be destroyed, with only the electronic records being maintained for 50 years.

System manager(s) and address:

Commander Navy Installations Command (N9113), 2713 Mitscher Road SW., Suite 300, Anacostia Annex, DC 20373-5802.

Notification procedure:

Individuals seeking to determine whether information about themselves is contained in this system should address written inquiries to the Commander Navy Installations Command (N9113), 2713 Mitscher Road SW., Suite 300, Anacostia Annex, DC 20373-5802.

Request should contain full name and Social Security Number of the individual and be signed.

Record access procedures:

Individuals seeking access to records about themselves contained in this system of records should address written inquiries to the Commander Navy Installations Command (N9113), 2713 Mitscher Road SW., Suite 300, Anacostia Annex, DC 20373-5802.

Request should contain full name and Social Security Number of the individual and be signed.

Contesting record procedures:

The Navy's rules for accessing records, and for contesting contents and appealing initial agency determinations are published in Secretary of the Navy Instruction 5211.5; 32 CFR part 701, or may be obtained from the system manager.

Record source categories:

Family advocacy files.

Exemptions claimed for the system:

None.

N07200-1

System name:

Navy Morale, Welfare, and Recreation Debtors List (June 5, 2006, 71 FR 32332).

Changes:

* * * * *

System Location:

Delete “http://neds.daps.dla.mil/sndl.htm” and replace with “http://doni.daps.dla.mil/sndl.aspx”.

* * * * *

System manager(s) and address:

In first paragraph, after “Installations” add “Command”. Also, delete “http://neds.daps.dla.mil/sndl.htm” and replace with “http://doni.daps.dla.mil/sndl.aspx”.

Notification procedure:

Delete “http://neds.daps.dla.mil/sndl.htm” and replace with “http://doni.daps.dla.mil/sndl.aspx”.

Record access procedures:

Delete “http://neds.daps.dla.mil/sndl.htm” and replace with “http://doni.daps.dla.mil/sndl.aspx”.

* * * * *

N07200-1

System name:

Navy Morale, Welfare, and Recreation Debtors List.

System location:

Local Morale, Welfare, and Recreation Offices/Visitors Quarters/Civilian Fund Business Offices that fall under the Commanding Officer of an installation. Official mailing addresses are published in http://doni.daps.dla.mil/sndl.aspx.

Categories of individuals covered by the system:

Individuals who owe money to Navy Morale, Welfare and Recreation (MWR) facilities.

Categories of records in the system:

Copy of application, dunning notices, DD Form 139s, correspondence from responsible MWR Business Office, Bad Check System (including: Returned Check Ledger; Returned Check Report; copies of returned checks; bank advice relative to the returned check(s); correspondence relative to attempt by Navy MWR to locate the patron and/or obtain payment; a printed report of names of those persons who have not made full restitution promptly, or who have had one or more checks returned through their own fault or negligence); Accounts Receivable Ledger, detailed by patron; and Treasury Offset Program (TOP) accounts.

Authority for maintenance of the system:

10 U.S.C. 5013, Secretary of the Navy; 31 FR 285.11, Administrative Wage Garnishment; Federal Claims Collection Act of 1966 (Pub. L. 89-508) and Debt Collection Act of 1982 (Pub. L. 97-365); and E.O. 9397 (SSN).

Purpose(s):

To maintain an automated tracking and accounting system for individuals indebted to the Department of the Navy's Morale, Welfare and Recreation (MWR) facilities for the purpose of collecting debts.

Records in this system are subject to use in approved computer matching programs authorized under the Privacy Act of 1974, as amended, for debt collection purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To a commercial credit reporting agency for the purpose of either adding to a credit history file or obtaining a credit history file for use in the administration of debt collection.

To a debt collection agency for the purpose of collection services to recover indebtedness owed to the Department of the Navy.

To the Internal Revenue Service (IRS) to obtain the mailing address of a taxpayer for the purpose of locating such taxpayer to collect or to compromise a Federal claim by Navy against the taxpayer pursuant to 26 U.S.C. 6103(m)(2) and in accordance with 31 U.S.C. 3711, 3217, and 3718.

To any State and local governmental agency that employs the services of others and that pays their wages or salaries, where the employee owes a delinquent non-tax debt to the United States for the purpose of garnishment.

To the Department of the Treasury, Financial Management Service, for the purpose of collecting delinquent debts owed to the U.S. Government via administrative offset.

Note: Redisclosure of a mailing address from the IRS may be made only for the purpose of debt collection, including to a debt collection agency in order to facilitate the collection or compromise of a Federal claim under the Debt Collection Act of 1982, except that a mailing address to a consumer reporting agency is for the limited purpose of obtaining a commercial credit report on the particular taxpayer. Any such address information obtained from the IRS will not be used or shared for any other Navy purpose or disclosed to another Federal, State or local agency which seeks to locate the same individual for its own debt collection purpose.

The DoD ‘Blanket Routine Uses’ that appear at the beginning of the Navy's compilation of systems notices also apply to this system.

Disclosure to consumer reporting agencies:

Disclosures pursuant to 5 U.S.C. 552a(b)(12) may be made from this system to “consumer reporting agencies” as defined in the Fair Credit Reporting Act, 15 U.S.C. 1681a(f) or the Federal Claims Collection Act of 1966, 31 U.S.C. 3701(a)(3). The purpose of the disclosure is to aid in the collection of outstanding debts owed to the Federal Government; typically, to provide an incentive for debtors to repay delinquent Federal Government debts by making these debts part of their credit records.

The disclosure is limited to information necessary to establish the identity of the individual, including name, address, and taxpayer identification number (Social Security Number); the amount, status, and history of the claim; and the agency or program under which the claim arose.

Policies and practices for storing, retrieving, accessing, retaining, and disposing of records in the system:

Storage:

Mainframe magnetic tapes, disk drives, printed reports, file folders, and PC hard and floppy disks.

Retrievability:

Name and Social Security Number.

Safeguards:

Information is stored in locked file cabinets, supervised office space, supervised computer tape library that is accessible only through the data center, entry to which is controlled by a “cardpad” security system, for which only authorized personnel are given the access code. PC entry into the system may only be made through individual passwords.

System manager(s) and address:

Policy official: Commander, Navy Installations (Finance Department) Millington Detachment, 5720 Integrity Drive, Millington, TN 38055-6500.

Record holder: Local Morale, Welfare, and Recreation Offices/Visitors Quarters/Civilian Fund Business Offices that fall under the Commanding Officer of an installation. Official mailing addresses are published in the Standard Navy Distribution List that is available at http://doni.daps.dla.mil/sndl.aspx.

Notification procedure:

Individuals seeking to determine whether this system of records contains information about themselves should address written inquiries to the local Morale, Welfare, and Recreation Office/Visitors Quarters/Civilian Fund Business Office at the installation where they obtained services or to the System Manager. Official mailing addresses are published in the Standard Navy Distribution List that is available at http://doni.daps.dla.mil/sndl.aspx.

In the initial inquiry, the requester must provide full name, Social Security Number, date of transaction, and the activity where they had their dealings. A list of other offices the requester may visit will be provided after initial contact is made at the office listed above. At the time of a personal visit, requesters must provide proof of identity containing the requester's signature.

Record access procedures:

Individuals seeking access to records about themselves should address written inquiries to the local Morale, Welfare, and Recreation Office/Visitors Quarters/Civilian Fund Business Office at the installation where they obtained services or to the System Manager. Official mailing addresses are published in the Standard Navy Distribution List that is available at http://doni.daps.dla.mil/sndl.aspx.

In the initial inquiry, the requester must provide full name, Social Security Number, date of transaction, and the activity where they had their dealings. A list of other offices the requester may visit will be provided after initial contact is made at the office listed above. At the time of a personal visit, requesters must provide proof of identity containing the requester's signature.

Contesting record procedures:

The Navy's rules for accessing records, and for contesting contents and appealing initial agency determinations are published in Secretary of the Navy Instruction 5211.5; 32 CFR part 701; or may be obtained from the system manager.

Record source categories:

The individual; the bank involved; activity records; Internal Revenue Service; credit bureaus; the Defense Manpower Data Center; and the Department of the Treasury.

Exemptions claimed for the system:

None.

[FR Doc. E7-1333 Filed 1-26-07; 8:45 am]

BILLING CODE 5001-06-P